ENVIRONMENTAL PROTECTION AGENCY

[FRL-9308-1]

Re-Proposal of Effluent Limits Under the NPDES General Permit for Oil and Gas Exploration, Development and Production Facilities Located in State and Federal Waters in Cook Inlet, AK (AKG-31-5000)

AGENCY: Environmental Protection Agency (EPA).

ACTION: Notice.

SUMMARY: EPA Region 10 today re-proposes six effluent limits for produced water under the National Pollutant Discharge Elimination System (NPDES) General Permit for Oil and Gas Exploration, Development and Production Facilities in State and Federal Waters in Cook Inlet, Permit No. AKG-31-5000 (Permit). The effluent limits subject to the re-proposal are: mercury, copper, total aromatic hydrocarbons (TAH), total aqueous hydrocarbons (TAqH), silver, and whole effluent toxicity (WET). As proposed, the Permit would continue to authorize discharges from exploration, development, and production facilities that are included in the Coastal and Offshore Subcategory of the Oil and Gas Extraction Point Source Category as authorized by Section 402 of the Clean Water Act (CWA or “the Act”), 33 U.S.C. 1342.

State Certification: Section 401 of the Act, 33 U.S.C. 1341, requires EPA to seek a certification from the State that the conditions of the re-proposed Permit are stringent enough to comply with State water quality standards. EPA obtained a draft certification from the Alaska Department of Environmental Conservation (ADEC) on May 3, 2011. EPA intends to seek a final certification from ADEC prior to issuing the final Permit. When the State issues certification, the State may impose more stringent conditions than are currently included in the Permit re-proposal to ensure compliance with State water quality standards. EPA would then be required to include the more stringent conditions from the State certification in the Permit pursuant to Section 401(d) of the Act, 33 U.S.C. 1341(d).

DATES: Comments. The public comment period on the re-proposed produced water effluent limits will be from the date of publication of this Notice until June 20, 2011. Comments must be received or post-marked by no later than midnight on June 20, 2011.

ADDRESSES: You may submit comments by any of the following methods. EPA will consider all comments prior to making its final decision.

Mail: Send paper copies to Hanh Shaw, Office of Water and Watersheds, Mail Stop OWW-130, 1200 Sixth Avenue, Suite 900, Seattle, WA 98101-3140.

E-mail: Send electronic copies to shaw.hanh@epa.gov.

Fax: Fax copies to the attention of Hanh Shaw at (206) 553-0165.

Hand Delivery/Courier: Deliver copies to Hanh Shaw, Office of Water and Watersheds, Mail Stop OWW-130, 1200 Sixth Avenue, Suite 900, Seattle, WA 98101-3140. Call (206) 553-1200 before delivery to verify business hours.

Viewing and/or Obtaining Copies of Documents. A copy of the Permit re-proposal, the fact sheet that fully explains the re-proposal, and a copy of the State's draft certification of reasonable assurance may be obtained or viewed at the following locations. (1) EPA Region 10 Library, Park Place Building, 1200 6th Avenue, Suite 900, Seattle, WA 98101-3140; (206) 553-1289. (2) EPA, Region 10, Alaska Operations Office, 222 W 7th Avenue, #19, Room 537, Anchorage, AK 99513; (907) 271-5083. (3) EPA Web site http://yosemite.epa.gov/r10/water.nsf/NPDES+Permits/Permits+Homepage. (4) ADEC Anchorage office, 555 Cordova Street, Anchorage, AK 99501-2617. (5) ADEC Web site http://www.dec.state.ak.us/water/index.htm.

FOR FURTHER INFORMATION CONTACT: Hanh Shaw, Office of Water and Watersheds, U.S. Environmental Protection Agency, Region 10, 1200 6th Avenue, Suite 900, Mail Stop OWW-130, Seattle, WA 98101-3140, (206) 553-0171, shaw.hanh@epa.gov.

SUPPLEMENTARY INFORMATION: On May 25, 2007, EPA issued the NPDES General Permit for Oil and Gas Exploration, Development and Production Facilities in State and Federal Waters in Cook Inlet, AKG-31-5000, effective July 2, 2007. On June 17, 2007, a petition for review was filed with the Ninth Circuit Court of Appeals (Court) by Cook Inletkeeper, Cook Inlet Fishermen's Fund, the Native Village of Nanwalek, and the Native Village of Port Graham (Petitioners) pursuant to Section 509(b)(1)(F) of the Act, 33 U.S.C. 1369(b)(1)(F). Among other things, Petitioners challenged the effluent limits in the Permit that became less stringent than the previous permit, claiming that these less stringent limits were not supported by an adequate antidegradation analysis. On March 15, 2010, EPA filed a Motion for Voluntary Remand (Motion). The Motion requested the Court to remand the less stringent produced water effluent limits for mercury, copper, TAH, TAqH, and WET to allow EPA to reconsider the inclusion of these limits in the Permit. On October 21, 2010, the Court issued a Memorandum which granted EPA's Motion, subject to specific reporting requirements (Ninth Circuit, Case No. 07-72420). As a result, the Court remanded the requested effluent limits to EPA. At the time EPA made its Motion to the Court, EPA inadvertently left out the less stringent silver effluent for produced water. This was an error and EPA should have included this limit in the remand request. Therefore, EPA has also included the silver effluent limit in this re-proposal.

Authority: This action is taken under the authority of Section 402 of the Clean Water Act as amended, 42 U.S.C. 1342. I hereby provide public notice of the Permit re-proposal in accordance with 40 CFR 124.10.

Dated: May 11, 2011.
Christine Psyk,
Associate Director, Office of Water and Watersheds, Region 10.

[FR Doc. 2011-12216 Filed 5-17-11; 8:45 am]

BILLING CODE 6560-50-P